DEPARTMENT OF LABOR

Office of Disability Employment Policy

Agency Information Collection Activities; Submission for OMB Review; Comment Request; Employment First Leadership State Mentoring Program Community of Practice Survey; Proposed Information Collection Request

AGENCY: Office of Disability Employment Policy, DOL.

ACTION: Notice.

SUMMARY: The U.S. Department of Labor (DOL), as part of its continuing effort to reduce paperwork and respondent burden, conducts a pre-clearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, DOL's Office of Disability Employment Policy (ODEP) is soliciting comments concerning the proposed collection of information for the Employment First Leadership State Mentoring Program Community of Practice Survey.

A copy of the proposed information collection request (ICR) can be obtained by contacting the office listed below in the ADDRESSES section of this notice.

DATES: Submit comments on or before June 30, 2014.

ADDRESSES: Submit written comments to the Office of Disability Employment Policy, Room S-1303, 200 Constitution Avenue NW., Washington, DC 20210, Attention: Serena Lowe; Telephone number: (202) 693-7880; Fax: (202) 693-7888; Email: lowe.serena.d@dol.gov.

Instructions: Please submit one copy of your comments by only one method. All submissions received must include the agency name and collection name identified above for this information collection. Because we continue to experience delays in receiving mail in the Washington, DC area, commenters are strongly encouraged to transmit their comments electronically via email or to submit them by mail early. Comments, including any personal information provided, become a matter of public record. They will be summarized and/or included in the request for Office of Management and Budget approval of the information collection request.

FOR FURTHER INFORMATION CONTACT: Serena Lowe, Senior Policy Advisor, Office of Disability Employment Policy, U.S. Department of Labor, Room S-1303, 200 Constitution Avenue NW., Washington, DC 20210; telephone (202) 693-7880 (this is not a toll free number). Copies of this notice may be obtained in alternative formats (Large print, Braille, Audio Tape, or Disc) by calling (202) 693-7880 (this is not a toll-free number). TTY/TTD callers may dial (202) 693-7881 to obtain information or to request materials in alternative formats.

SUPPLEMENTARY INFORMATION:

I. Background

ODEP is committed to increasing employment opportunities for youth and adult with disabilities, with a focus on employment that is truly integrated and supports individuals moving from poverty to economic self-sufficiency. In its 12 years of operation, ODEP has influenced the workforce development system, as well as the disability field with the introduction of customized employment, flexible workplace approaches, and universal strategies for workforce development, among other innovative initiatives. Building on this history of innovation, ODEP launched an Employment First (EF) technical assistance initiative to provide States with technical assistance to facilitate the use of integrated employment. This is accomplished by removing barriers at State and local levels to the placement of individuals with disabilities in integrated employment and promoting policy changes to make integrated employment the first option for youth and adults with significant disabilities.

ODEP launched the Employment First Leadership State Mentoring Program (EFLSMP) to assist States in developing and implementing EF policies. Thirty States started to participate in technical assistance sessions and discussions on a number of topics related to implementing, assessing, and disseminating information regarding EF policies via an online Community of Practice (CoP). The CoP sessions started in the fall of 2012 and will run monthly until the spring of 2014 via the portal ePolicyWorks.

Promoting and disseminating EF practices and strategies is a critical step toward addressing the persistent problem of low participation rates of individuals with disabilities in the workforce and fulfilling the promise of full integration. As a multitude of local, State, and Federal agencies are involved in making the adoption and implementation of EF strategies a success, initiatives to align policies, regulations, and funding are needed. Technical assistance provided through the EFLSMP provides participating States with information on how to restructure funding patterns, support collaboration, build staff capacity, and ultimately increase competitive, integrated employment outcomes for individuals with disabilities. ODEP's EF initiative is innovative in its inclusion of a variety of State partners, including:

1. Department of Rehabilitation Services;

2. Department of Mental Health;

3. Department Intellectual and Developmental Disabilities;

4. Workforce Development System;

5. Department of Education (Special Education Division); and

6. Medicaid agencies.

This data collection is also designed to gauge the effectiveness of ODEP's efforts to promote the implementation of EF policies and practices and determine how well remote training and online forums facilitate the implementation of EF activities in each participating state. Findings from this census of participating CoP states also will provide the DOL with important information for strategic planning, program replication, and development of disability employment policies, approaches, and practices.

II. Review Focus

DOL is interested in comments that:

* Evaluate whether the proposed collection of information is necessary, and whether the information will have practical utility;

* Evaluate the accuracy of the agency's estimate of the burden of the proposed collection of information, including the validity of the methodology and assumptions used;

* Enhance the quality, utility, and clarity of the information to be collected; and

* Minimize the burden of the collection of information on those who are to respond.

Comments submitted in response to this Notice will be summarized and included in the request for Office of Management and Budget approval of the ICR; they will also become a matter of public record.

III. Current Actions

Agency: Department of Labor, Office of Disability Employment Policy.

Title: Employment First Leadership State Mentoring Program Community of Practice Survey.

Affected Public: State, Local, and Tribal Governments.

Total Respondents: 30.

Frequency: Once for each of 6 staff-members of the respondent.

Total Responses: 180.

Average Time per Response: 15-20 minutes.

Estimated Total Burden Hours: 47.

Total Other Burden Cost: $1,850.

Signed at Washington, DC, April 22, 2014.
Kathleen Martinez,
Assistant Secretary, Office of Disability Employment Policy.

[FR Doc. 2014-09813 Filed 4-29-14; 8:45 am]

BILLING CODE 4510-27-P